COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to add a product in unrestricted quantities to Annex 3.25 of the CAFTA-DR Agreement.

DATES: Effective Date: March 25, 2013.

SUMMARY: The Committee for the Implementation of Textile Agreements (“CITA”) has determined that certain three-thread fleece fabric with soft hand pigment, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf under “Approved Requests,” Reference number: 177.2013.02.21.Fabric.SoriniSametforGaranMfg.

SUPPLEMENTARY INFORMATION:

Authority: The CAFTA-DR Agreement; Section 203(o)(4) of the Dominican Republic-Central America-United States Free Trade Agreement Implementation Act (“CAFTA-DR Implementation Act”), Pub. Law 109-53; the Statement of Administrative Action, accompanying the CAFTA-DR Implementation Act; and Presidential Proclamations 7987 (February 28, 2006) and 7996 (March 31, 2006).

Background

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“CITA's procedures”).

On February 21, 2013, the Chairman of CITA received a request for a Commercial Availability determination (“Request”) from Sorini Samet & Associates LLC on behalf of Garan Manufacturing, Inc. for certain three-thread fleece fabric with soft hand pigment, as specified below. On February 25, 2013, in accordance with CITA's procedures, CITA notified interested parties of the Request, which was posted on the dedicated Web site for CAFTA-DR Commercial Availability proceedings. In its notification, CITA advised that any Response with an Offer to Supply (“Response”) must be submitted by March 7, 2013, and any Rebuttal Comments to a Response must be submitted by March 13, 2013, in accordance with sections 6 and 7 of CITA's procedures. No interested entity submitted a Response to the Request advising CITA of its objection to the Request and its ability to supply the subject product.

In accordance with section 203(o)(4)(C) of the CAFTA-DR Implementation Act, and section 8(c)(2) of CITA's procedures, as no interested entity submitted a Response objecting to the Request and providing an offer to supply the subject product, CITA has determined to add the specified fabric to the list in Annex 3.25 of the CAFTA-DR Agreement.

The subject product has been added to the list in Annex 3.25 of the CAFTA-DR Agreement in unrestricted quantities. A revised list has been posted on the dedicated Web site for CAFTA-DR Commercial Availability proceedings.

Specifications: Certain Three-Thread Fleece Fabric With Soft Hand Pigment

HTS: 6001.21.

Overall fiber content: Cotton—57 to 63%; Polyester—37 to 43%.

Gauge: 21.

Face Yarn

Fiber content: 57-63% combed cotton; 37-43% polyester ring spun.

Yarn size: 47.4/1-57.6/1 (metric); 28/1--34/1 (English).

Tie Yarn

Fiber content: 100% polyester.

Yarn size: 157.9-191.5/48 filament (metric); 47-57 denier 48 filament (English).

Fleece Yarn

Fiber content: 72-78% carded cotton, 22-28% polyester.

Yarn Size: 18.6/1-28.8/1(metric); 11/1-17/1 (English).

Weight: 233.9-267.8 g/square meter (6.9-7.8 oz./square yard).

Width: 152.4 cm cuttable or greater, open width (60” cuttable or greater, open width).

Finish: Bleached and rotary printed with soft hand pigment (process), or piece dyed and rotary printed with soft hand pigment (process) (see note).

Performance Criteria

1. Torque must not exceed 4% (must meet AATCC 179).

2. Vertical and horizontal shrinkage must be under 5%.

3. Must meet a class-1 flammability rating.

Note: The attributes listed for yarn size relate to the size of the yarn prior to knitting. The measurements for fabric construction and weight relate to the fabric prior to garment production. Some variations may occur in these measurements as a result of the manufacturing process.

Note (Finishing): A soft hand pigment is a known industry term. It refers a process which involves the use of special binding agents, typically acrylic polymers used to affix the pigments to fabrics. The bonding agents used in soft hand pigment printing process have lower glass transition temperatures. The glass-transition, or glass transition, is the reversible transition in amorphous materials (or in amorphous regions within semi-crystalline materials) from a hard and relatively brittle state into a molten or rubber-like state.

Kim Glas,
Chairman, Committee for the Implementation of Textile Agreements.

[FR Doc. 2013-06681 Filed 3-22-13; 8:45 am]

BILLING CODE P